ENVIRONMENTAL PROTECTION AGENCY

[FRL-8248-7]

Proposed Agreement and Covenant Not To Sue for the Portland Harbor Superfund Site, Triangle Park Removal Area, and the McCormick & Baxter, Inc. Superfund Site, Portland, Multnomah County, OR

AGENCY: Environmental Protection Agency.

ACTION: Notice of proposed agreement; request for public comment.

SUMMARY: In accordance with the Comprehensive Environmental Response Compensation, and Liability Act, 42 U.S.C. 9601 et seq. (“CERCLA”), notice is hereby given of the proposed Agreement between the U.S. Environmental Protection Agency (“EPA”) and the University of Portland (“University”), subject to the final review and approval of the EPA and the U.S. Department of Justice. The proposed Agreement relates to the University's plan to expand its campus by purchasing two adjacent properties, one currently owned by Triangle Park LLC at 5828 N. Van Houten Place, Portland, and the other currently owned by McCormick & Baxter, Inc. at 6900 Edgewater, Portland (the “Properties”). The Properties are contiguous with the Willamette River. The University is certifying that it did not cause or contribute to the contamination at either the Portland Harbor or McCormick & Baxter Sites. The Agreement provides for the University to spend $3 million conducting a non-time critical removal action on the Triangle Park property. The University seeks to continue to pursue and expand its educational and service mission by relocating certain athletic facilities, freeing up its existing land for construction of academic buildings. The University's plan includes public access to the Properties, and recreational opportunities, including a planned riverfront trail. In addition to conducting the $3 million removal action, the University will pay EPA's costs of overseeing that removal action. In exchange for this consideration, the proposed Agreement contains the United States' conditional covenant not to sue the University for existing contamination at the Sites. The covenant is subject to certain reservations set forth in the Agreement. In addition, the proposed Agreement provides protection from third-party law suits for contribution. In order for the University to purchase the Triangle Park property by the closing date in the agreement for the purchase of that property (December 31, 2006), EPA is allowing just over fifteen (15) days for public comment on the Agreement.

DATES: Comments must be submitted by December 18, 2006. EPA and the Department of Justice will consider all comments received and may modify or withdraw the Agreement if comments received or any other information indicates that such action is appropriate.

ADDRESSES: The proposed agreement is available for public inspection at the U.S. Environmental Protection Agency, Region 10 Office located at 1200 Sixth Avenue, in Seattle, Washington 98101. A copy of the proposed Agreement may be obtained from Carol Kennedy, Regional Hearing Clerk, U.S. Environmental Protection Agency, Region 10, 1200 Sixth Avenue, Mail Code ORC-158 Seattle, Washington 98101; (206) 553-0242. Comments should refer to the Portland Harbor Superfund Site, Triangle Park Removal Area, & McCormick & Baxter Superfund Site, Portland, Oregon, and should be addressed to Jennifer G. MacDonald, Assistant Regional Counsel, U.S. Environmental Protection Agency, Region 10, 1200 Sixth Avenue, Mail Code ORC-158 Seattle, Washington 98101; fax: (206) 553-0163; e-mail: MacDonald.Jennifer@epa.gov.

FOR FURTHER INFORMATION CONTACT: Jennifer G. MacDonald, Assistant Regional Counsel, U.S. Environmental Protection Agency-Region 10, Mail Code ORC-158, 1200 Sixth Avenue, Seattle, Washington 98101; phone: (206) 553-8311.

Dated: November 20, 2006.
Elin D. Miller,
Regional Administrator, U.S. Environmental Protection Agency, Region 10.

[FR Doc. E6-19989 Filed 11-24-06; 8:45 am]

BILLING CODE 6560-50-P